FEDERAL COMMUNICATIONS COMMISSION

47 CFR Part 63

[IB Docket No. 12-299; FCC 14-48]

Reform of Rules and Policies on Foreign Carrier Entry Into the U.S. Telecommunications Market; Correction

AGENCY: Federal Communications Commission.

ACTION: Correcting amendment.

SUMMARY: This document contains a correction to a final regulation, which was published in the Federal Register on Tuesday, June 3, 2014 (79 FR 31877). The regulation relates to the contents of applications for international common carriers.

DATES: Effective August 3, 2015.

FOR FURTHER INFORMATION CONTACT: Veronica Garcia-Ulloa, Policy Division, International Bureau at 202-418-0481; David Krech, Policy Division, International Bureau at 202-418-7443; Susan O'Connell, Policy Division, International Bureau at 202-418-1484.

SUPPLEMENTARY INFORMATION: In a final rule published on Tuesday, June 3, 2014 (79 FR 31877), the revision description of § 63.18(k) incorrectly states that “Section 63.18 is amended by revising paragraph (k) introductory text,” instead of correctly stating that “Section 63.18 is amended by revising paragraph (k),” leading the published final regulation § 63.18(k) to incorrectly keep subparagraphs (1)-(3), which should be removed. This correcting amendment document removes subparagraphs (1)-(3) of § 63.18(k).

List of Subjects in 47 CFR Part 63

Communications common carriers.

Accordingly, 47 CFR part 63 is corrected by making the following correcting amendment:

PART 63—EXTENSION OF LINES, NEW LINES, AND DISCONTINUANCE, REDUCTION, OUTAGE AND IMPAIRMENT OF SERVICE BY COMMON CARRIERS; AND GRANTS OF RECOGNIZED PRIVATE OPERATING AGENCY STATUS

1. The authority citation for part 63 continues to read as follows:

Authority: Sections 1, 4(i), 4(j), 10, 11, 201-205, 214, 218, 403 and 651 of the Communications Act of 1934, as amended, 47 U.S.C. 151, 154(i), 154(j), 160, 201-205, 214, 218, 403, and 571, unless otherwise noted.

2. Section 63.18 is amended by revising paragraph (k) to read as follows:

§ 63.18 Contents of applications for international common carriers.

* * * * *

(k) For any country that the applicant has listed in response to paragraph (j) of this section that is not a member of the World Trade Organization, the applicant shall make a demonstration as to whether the foreign carrier has market power, or lacks market power, with reference to the criteria in § 63.10(a).

NOTE TO PARAGRAPH (k): Under § 63.10(a), the Commission presumes, subject to rebuttal, that a foreign carrier lacks market power in a particular foreign country if the applicant demonstrates that the foreign carrier lacks 50 percent market share in international transport facilities or services, including cable landing station access and backhaul facilities, intercity facilities or services, and local access facilities or services on the foreign end of a particular route.

* * * * *

Federal Communications Commission.
Gloria J. Miles,
Federal Register Liaison.

[FR Doc. 2015-18799 Filed 7-31-15; 8:45 am]

BILLING CODE 6712-01-P